ENVIRONMENTAL PROTECTION AGENCY

40 CFR Parts 174 and 180

[EPA-HQ-OPP-2025-0028; FRL-12474-09-OCSPP]

Receipt of Pesticide Petitions Filed for Residues of Pesticide Chemicals in or on Various Commodities—September 2025

AGENCY: Environmental Protection Agency (EPA).

ACTION: Notice of filing of petitions and request for comment.

SUMMARY: This document announces the Agency's receipt of and solicits public comment on initial filings of pesticide petitions requesting the establishment or modification of regulations for residues of pesticide chemicals in or on various commodities. The Agency is providing this notice in accordance with the Federal Food, Drug, and Cosmetic Act (FFDCA). EPA uses the month and year in the title to identify when the Agency compiled the petitions identified in this notice of filing. Unit II. of this document identifies certain petitions received in 2024, that are currently being evaluated by EPA, along with information about each petition, including who submitted the petition and the requested action.

DATES: Comments must be received on or before December 31, 2025.

ADDRESSES: Submit your comments, identified by docket identification (ID) number and the pesticide petition (PP) of interest identified in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA regulations for residues of pesticide chemicals in or on various food commodities are established under section 408 of the Federal Food, Drug, and Cosmetic Act (FFDCA), 21 U.S.C. 346a. FFDCA section 408(d)(3), 21 U.S.C. 346a(d)(3), requires EPA to publish a notice of receipt of these petitions in the Federal Register and provide an opportunity for public comment on the requests.

C. What action is the Agency taking?

As specified in FFDCA section 408(d)(3), 21 U.S.C. 346a(d)(3), EPA is publishing notice of the receipt of pesticide petitions filed under FFDCA section 408 that request the establishment or modification of regulations for residues of pesticide chemicals in or on various food commodities. The Agency is taking public comment on the requests before responding to the petitioner. Pursuant to 40 CFR 180.7(f), a summary of the petition identified in this document, prepared by the petitioner, is included in a docket. EPA has determined that the pesticide petitions described in this document contain data or information prescribed in FFDCA section 408(d)(2), 21 U.S.C. 346a(d)(2), and 40 CFR 180.7(b); however, EPA has not fully evaluated the sufficiency of the submitted data at this time or whether the data supports granting the pesticide petitions. After considering the public comments, EPA intends to evaluate whether and what action may be warranted. Additional data may be needed before EPA can make a final determination on these pesticide petitions.

Based upon review of the data supporting these petitions and in accordance with its authority under FFDCA section 408(d)(4)(A)(i), EPA may establish a final tolerance or tolerance exemption that “may vary from that sought by the petitioner.” For example, EPA may determine that it is appropriate to vary the commodity name for consistency with EPA's Food and Feed Commodity Vocabulary, which is located here https://www.epa.gov/pesticide-tolerances/food-and-feed-commodity-vocabulary, or vary the tolerance level based on available data, harmonization interests, or the trailing zeros policy. In addition, when evaluating a petition's requests for a tolerance or exemption, EPA will consider how use of the pesticide on a crop for which a tolerance is requested may result in residues in or on commodities related to that requested commodity (e.g., whether use on sugar beets for which a tolerance was requested on sugar beet root also requires a tolerance on sugar beet tops or whether use on a cereal grain for which a grain tolerance was requested also requires a tolerance on related animal feed commodities derived from that cereal grain). Public commenters should consider the possibility of such revisions in preparing comments on these petitions.

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov//commenting-epa-dockets.

II. Petitions Received

This unit provides the following information about the petitions:

• The Pesticide Petition (PP) Identification (IN) number;

• EPA docket ID number for the petition;

• Information about the petition (i.e., name of the petitioner, name of the pesticide chemical residue and the commodities for which a tolerance or exemption is sought);

• The analytical method available to detect and measure the pesticide chemical residue or the petitioner's statement about why such a method is not needed; and

• The division to contact for that petition.

Additional information on the petitions may be obtained through the petition summaries that were prepared by the petitioners pursuant to 21 U.S.C. 346a(d)(2)(A)(i)(I) and 40 CFR 180.7(b)(1), which are included in the docket for the petition as identified in this unit.

• PP 4F9161. (EPA-HQ-OPP-2025-0129). Valent U.S.A. LLC, 4600 Norris Canyon Road, San Ramon, CA 94583 requests to amend 40 CFR part 180 by establishing a tolerance for residues of fungicide inpyrfluxam (3-(difluoromethyl)-N-[(R)-2,3-dihydro-1,1,3-trimethyl-1H-inden-4-yl]-1-methyl-1H-pyrazole-4-carboxamide) in or on leafy greens subgroup 4-16A at 5 parts per million (ppm). An independently validated method is used to measure and evaluate the chemical inpyrfluxam. Contact: RD.

• PP 5F9188. (EPA-HQ-OPP-2025-1444). ADAMA Agan Ltd. c/o Makhteshim Agan of North America, Inc. (d/b/a ADAMA) 8601 Six Forks Road, Suite 300 Raleigh, NC 27615, requests to establish a tolerance in 40 CFR part 180 for residues of the herbicide metamitron in or on beet, sugar, roots at 0.01 ppm. The HPLC employing tandem mass spectrometric (MS/MS) detection (LC-MS/MS) is used to measure and evaluate the chemical metamitron. Contact: RD.

• PP 5F9198. (EPA-HQ-OPP-2025-2103). Corteva Agriscience, 9330 Zionsville Road Indianapolis, IN 46268, requests to establish a tolerance in 40 CFR part 180 for residues of the nematicide fluazaindolizine in or on: Almond, hulls at 3.0 ppm; strawberry at 0.15 ppm; fruit, small vine climbing (except fuzzy kiwifruit), subgroup 13-07F at 0.04 ppm; raisins at 0.15 ppm; cherry subgroup 12-12A at 0.01 ppm; orange subgroup 10-10A at 0.03 ppm; lemon/lime subgroup 10-10B at 0.01 ppm; grapefruit subgroup 10-10C at 0.01 ppm; nut, tree, group 14-12 at 0.04 ppm; vegetable, brassica, head and stem, group 5-16 at 0.02 ppm; vegetable, leafy, group 4-16 at 0.02 ppm and herb, fresh leaves, subgroup 25A at 0.02 ppm. The LC/MS/MS method is used to measure and evaluate the chemical fluazaindolizine. Contact: RD.

• PP 5F9198. (EPA-HQ-OPP-2025-2103). Corteva Agriscience, 9330 Zionsville Road Indianapolis, IN 46268, requests to establish an indirect or inadvertent tolerance for residues of the nematicide fluazaindolizine in or on Sugarcane at 0.01 ppm. The LC/MS/MS method is used to measure and evaluate the chemical fluazaindolizine. Contact: RD.

Authority: 21 U.S.C. 346a.

Dated: November 25, 2025.
Edward Messina,
Director, Office of Pesticide Programs.

[FR Doc. 2025-21679 Filed 11-28-25; 8:45 am]

BILLING CODE 6560-50-P